SECURITIES AND EXCHANGE COMMISSION

[Release No. 34-100495; File No. 4-820]

Options Price Reporting Authority; Notice of Designation of a Longer Period for Commission Action on a Proposed Amendment To Modify Section 5.2(c)(iii) of the OPRA Plan Relating to Dissemination of Exchange Proprietary Data Information

July 11, 2024.

On November 8, 2023, the Cboe BZX Exchange, Inc. (“BZX Options”), Cboe Exchange, Inc. (“Cboe Options”), Cboe C2 Exchange, Inc. (“C2 Options”), and Cboe EDGX Exchange, Inc. (“EDGX Options”) (collectively, the “Sponsors” or “Cboe”) filed with the Securities and Exchange Commission (“Commission”) a proposed amendment to the Plan for Reporting of Consolidated Options Last Sale Reports and Quotation Information (“OPRA Plan”). The proposed amendment was published for comment in the Federal Register on January 22, 2024.¹

¹ See Options Price Reporting Authority; Notice of Filing of Proposed Amendment to Modify Section 5.2(c)(iii) of the OPRA Plan Relating to Dissemination of Exchange Proprietary Data Information, Securities Exchange Act Release No. 99345 (Jan. 16, 2024), 89 FR 3963 (Jan. 22, 2024) (“Notice”). Comments received in response to the Notice can be found on the Commission's website at https://www.sec.gov/comments/4-820/4-820.htm.

On April 19, 2024, the Commission instituted proceedings pursuant to Rule 608(b)(2)(i) of Regulation NMS ² under the Exchange Act to determine whether to approve or disapprove the proposed amendment or to approve the proposed amendment with any changes or subject to any conditions the Commission deems necessary or appropriate after considering public comment.³ Rule 608(b)(2)(i) of Regulation NMS provides that such proceedings shall be concluded within 180 days of the date of publication of notice of the plan or amendment and that the time for conclusion of such proceedings may be extended for up to 60 days (up to 240 days from the date of publication of notice of the plan or amendment) if the Commission determines that a longer period is appropriate and publishes the reasons for such determination or the plan participants consent to a longer period.⁴ The 180th day after publication of the Notice for the proposed amendment is July 20, 2024. The Commission is extending this 180-day period.

² 17 CFR 242.608(b)(2)(i).

³ See Options Price Reporting Authority; Order Instituting Proceedings to Determine Whether to Approve or Disapprove a Proposed Amendment To Modify Section 5.2(c)(iii) of the OPRA Plan Relating to Dissemination of Exchange Proprietary Data Information, Securities Exchange Act Release No. 99994 (Apr. 19, 2024), 89 FR 31785 (Apr. 25, 2024). Comments received in response to the Order Instituting Proceedings can be found on the Commission's website at https://www.sec.gov/comments/4-820/4-820.htm.

⁴ See 17 CFR 242.608(b)(2)(i).

The Commission finds that it is appropriate to designate a longer period within which to conclude proceedings regarding the proposed amendment so that it has sufficient time to consider the proposed amendment and the comments received. Accordingly, pursuant to Rule 608(b)(2)(i) of Regulation NMS,⁵ the Commission designates September 18, 2024, as the date by which the Commission shall conclude the proceedings to determine whether to approve or disapprove the proposed amendment or to approve the proposed amendment with any changes or subject to any conditions the Commission deems necessary or appropriate (File No. 4-820).

⁵ Id.

For the Commission, by the Division of Trading and Markets, pursuant to delegated authority.⁶
⁶ 17 CFR 200.30-3(a)(85).
J. Matthew DeLesDernier,
Deputy Secretary.

[FR Doc. 2024-15666 Filed 7-16-24; 8:45 am]

BILLING CODE 8011-01-P